DEPARTMENT OF HEALTH AND HUMAN SERVICES

Administration for Children and Families

Proposed Information Collection Activity; Comment Request

Proposed Projects

Title: Trafficking Victims Certification and Reporting System.

OMB No. New.

Description: HHS has three specific areas of responsibility under the Victims of Trafficking and Violence Protection Act of 2000 (Pub. L. 106-386) that require new information. These are: (1) Issuing a letter certifying victims as eligible to apply for public benefits, (2) Expanding benefits, and (3) reporting to Congress on the number of people who receive benefits and services. Other requirements may result from the activities of an Interagency Task Force of which HHS is a member.

Information concerning victims of a severe form of trafficking is needed to certify those individuals as eligible to apply for public benefits and to help them secure subsistence while they wait to assist the Attorney General in the prosecution of a case against the trafficker. Updated information on client location is critical to statutory intent to ensure the victim's ability to meet basic needs while in the U.S. to cooperate in the prosecution of a trafficker. Current information on the number of victims receiving benefits is required to be annually reported to the U.S. Congress by the Secretary. Such information is also essential to program management and budget planning.

Respondents: Respondents are primarily state and county public assistance eligibility workers and the DOJ. DOL, DOS, other federal agencies, other law enforcement agencies, victims of trafficking and voluntary agency staff could contribute information as well.

Annual Burden Estimates
Instrument | Number of respondents | Number of responses per respondent | Average burden hours per response | Total burden hours
DOJ Request for Victim letter of Certification | One per request; estimated 200 requests annually | 1 | Thirty minutes | 100 hours.
Database and telephone script | 52 (+/-) state refugee coordinators or district eligibility workers | Two for each client. Initial call at intake, plus second call for update on benefits being received | 6000 minutes (4 minutes x 750 clients x 2 calls) | 100 hours (6000 minutes divided by 60).
Trafficking Certification Statistics | One ORR staffer compiles | One for every client | Thirty seconds per client | 6.2 hours.
Estimated total annula burden hours |  |  |  | 206.2

In compliance with the requirements of section 3506(c)(2)(A) of the Paperwork Reduction Act of 1995, the Administration for Children and Families is soliciting public comment on the specific aspects of the information collection described above. Copies of the proposed collection of information can be obtained and comments may be forwarded by writing to the Administration for Children and Families, Office of Information Services, 370 L'Enfant Promenade, SW., Washington, DC 20447, Attn: ACF Reports Clearance Officer. All requests should be identified by the title of the information collection.

The Department specifically requests comments on: (a) Whether the proposed collection of information is necessary for the proper performance of the functions of the agency, including whether the information shall have practical utility; (b) the accuracy of the agency's estimate of the burden of the proposed collection of information; (c) the quality, utility, and clarity of the information to be collected, and (d) ways to minimize the burden of the collection of information on respondents, including through the use of automated collection techniques or other forms of information technology. Consideration will be given to comments and suggestions submitted within 60 days of this publication.

Dated: January 7, 2002.
Bob Sargis,
Reports Clearance Officer.

[FR Doc. 02-1239 Filed 1-16-02; 8:45 am]

BILLING CODE 4184-01-M